DEPARTMENT OF ENERGY

Federal Energy Regulatory Commission

Combined Notice Of Filings #1

Take notice that the Commission received the following exempt wholesale generator filings:

Docket Numbers: EG26-55-000.

Applicants: Enbridge Solar (Sequoia II), LLC.

Description: Enbridge Solar (Sequoia II), LLC submits Notice of Self-Certification of Exempt Wholesale Generator Status.

Filed Date: 11/18/25.

Accession Number: 20251118-5128.

Comment Date: 5 p.m. ET 12/9/25.

Take notice that the Commission received the following electric rate filings:

Docket Numbers: ER10-1338-005.

Applicants: Southern Indiana Gas and Electric Company, Inc.

Description: Second Supplement to 12/28/2023, Triennial Market Power Analysis for Central Region of Southern Indiana Gas and Electric Company, Inc.

Filed Date: 11/17/25.

Accession Number: 20251117-5225.

Comment Date: 5 p.m. ET 12/8/25.

Docket Numbers: ER25-2818-001.

Applicants: Adelite Solar, LLC.

Description: Notice of Non-Material Change in Status of Adelite Solar, LLC.

Filed Date: 11/18/25.

Accession Number: 20251118-5161.

Comment Date: 5 p.m. ET 12/9/25.

Docket Numbers: ER25-2819-001.

Applicants: Ruby Solar, LLC.

Description: Notice of Non-Material Change in Status of Ruby Solar, LLC.

Filed Date: 11/18/25.

Accession Number: 20251118-5157.

Comment Date: 5 p.m. ET 12/9/25.

Docket Numbers: ER26-442-001.

Applicants: PJM Interconnection, L.L.C.

Description: Tariff Amendment: Amendment of WMPA, SA No. 7764; NC-005 to be effective 1/18/2026.

Filed Date: 11/18/25.

Accession Number: 20251118-5100.

Comment Date: 5 p.m. ET 12/9/25.

Docket Numbers: ER26-535-000.

Applicants: Greenswitch Wind, LLC.

Description: Request for Limited and Prospective Waiver, et al. of RWE Clean Energy, LLC.

Filed Date: 11/17/25.

Accession Number: 20251117-5290.

Comment Date: 5 p.m. ET 12/8/25.

Docket Numbers: ER26-537-000.

Applicants: Hardin Solar Energy III LLC.

Description: § 205(d) Rate Filing: Notice of Cancellation and Certificate of Concurrence to be effective 12/10/2025.

Filed Date: 11/18/25.

Accession Number: 20251118-5080.

Comment Date: 5 p.m. ET 12/9/25.

Docket Numbers: ER26-538-000.

Applicants: Southern California Edison Company.

Description: § 205(d) Rate Filing: Appendix IX-Att. 2 of TOT, SCE Revisions to Address FERC Order 898 to be effective 1/1/2026.

Filed Date: 11/18/25.

Accession Number: 20251118-5102.

Comment Date: 5 p.m. ET 12/9/25.

Docket Numbers: ER26-539-000.

Applicants: Public Service Company of Colorado.

Description: § 205(d) Rate Filing: 2025-11-18—PLGIA—Towner Wind—879-0.0.0 to be effective 10/19/2025.

Filed Date: 11/18/25.

Accession Number: 20251118-5145.

Comment Date: 5 p.m. ET 12/9/25.

Docket Numbers: ER26-540-000.

Applicants: Otter Tail Power Company.

Description: Tariff Amendment: Notice of Termination of TSSA for Brookings Project to be effective 1/18/2026.

Filed Date: 11/18/25.

Accession Number: 20251118-5155.

Comment Date: 5 p.m. ET 12/9/25.

Docket Numbers: ER26-541-000.

Applicants: PVS 2, LLC.

Description: Initial Rate Filing: Application for Market Based Rate to be effective 1/1/2026.

Filed Date: 11/18/25.

Accession Number: 20251118-5182.

Comment Date: 5 p.m. ET 12/9/25.

Docket Numbers: ER26-542-000.

Applicants: Green River Energy Center, LLC.

Description: Initial Rate Filing: Application for Market Based Rate to be effective 1/1/2026.

Filed Date: 11/18/25.

Accession Number: 20251118-5190.

Comment Date: 5 p.m. ET 12/9/25.

Docket Numbers: ER26-543-000.

Applicants: Appalachian Power Company.

Description: § 205(d) Rate Filing: APCo-Ramble Wind (Top Hat) SFA to be effective 11/19/2025.

Filed Date: 11/18/25.

Accession Number: 20251118-5192.

Comment Date: 5 p.m. ET 12/9/25.

Take notice that the Commission received the following public utility holding company filings:

Docket Numbers: PH26-2-000.

Applicants: Consumers Energy Company.

Description: CMS Energy Corporation submits FERC 65-B Notice of Change in Fact to Waiver Notification.

Filed Date: 11/17/25.

Accession Number: 20251117-5285.

Comment Date: 5 p.m. ET 12/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, services, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 18, 2025.
Carlos D. Clay,
Deputy Secretary.

[FR Doc. 2025-20565 Filed 11-20-25; 8:45 am]

BILLING CODE 6717-01-P